DEPARTMENT OF ENERGY

Federal Energy Regulatory Commission

Combined Notice of Filings #1

June 12, 2008.

Take notice that the Commission received the following electric corporate filings:

Docket Numbers: EC08-101-000.

Applicants: Aircraft Services Corporation; Wachovia New Sub, LLC; Tatanka Wind Power, LLC.

Description: Application of Aircraft Services Corporation, et al. for Order Authorizing Disposition of Jurisdictional Facilities Under Section 203 of the FPA.

Filed Date: 06/10/2008.

Accession Number: 20080610-5086.

Comment Date: 5 p.m. Eastern Time on Tuesday, July 01, 2008.

Take notice that the Commission received the following electric rate filings:

Docket Numbers: ER96-1551-020; ER01-615-016; ER07-965-002; ER08-1022-001; ER08-1023-001.

Applicants: Public Service Company of New Mexico.

Description: Public Service Co of New Mexico et al. submits an amendment to their pending compliance filing.

Filed Date: 06/05/2008.

Accession Number: 20080611-0118.

Comment Date: 5 p.m. Eastern Time on Thursday, June 26, 2008.

Docket Numbers: ER96-2601-021; ER96-2602-010.

Applicants: DPL Energy, LLC; The Dayton Power and Light Company.

Description: The Dayton Power and Light Co et al. submits Substitute First Revised Sheet 1 et al. to FERC Electric Tariff, Second Revised Volume 6, in compliance with FERC's 6/30/08 order.

Filed Date: 06/06/2008.

Accession Number: 20080611-0122.

Comment Date: 5 p.m. Eastern Time on Friday, June 27, 2008.

Docket Numbers: ER98-4159-013; ER04-268-010; ER06-399-007; ER06-398-007.

Applicants: Duquesne Light Company; Duquesne Power, LLC; Duquesne Keystone, LLC; Duquesne Conemaugh, LLC.

Description: Duquesne Companies submits a notice of non-material change in status.

Filed Date: 06/09/2008.

Accession Number: 20080611-0111.

Comment Date: 5 p.m. Eastern Time on Monday, June 30, 2008.

Docket Numbers: ER01-1266-009; ER01-1267-012; ER01-1268-010; ER01-1269-009; ER01-1270-012; ER01-1271-010; ER01-1273-010; ER01-1277-009; ER01-1278-012; ER02-1213-008.

Applicants: Mirant Bowline, LLC; Mirant California, LLC; Mirant Canal, LLC; Mirant Chalk Point, LLC; Mirant Delta, LLC; Mirant Kendall, LLC; Mirant Mid-Atlantic, LLC; Mirant Potomac River, LLC; Mirant Potrero, LLC; Mirant Energy Trading, LLC.

Description: Mirant Entities submits a notice of non-material change in status.

Filed Date: 06/06/2008.

Accession Number: 20080611-0119.

Comment Date: 5 p.m. Eastern Time on Friday, June 27, 2008.

Docket Numbers: ER01-2830-003.

Applicants: Roseburg Forest Products Company.

Description: Application of Roseburg Forest Products for Finding as a Category 1 Seller of Davison Van Cleve, PC.

Filed Date: 06/09/2008.

Accession Number: 20080609-5124.

Comment Date: 5 p.m. Eastern Time on Monday, June 30, 2008.

Docket Numbers: ER01-390-005; ER99-3450-008; ER99-2769-009; ER00-2706-006; ER01-2760-005.

Applicants: Chandler Wind Partners, LLC; Foote Creek II, LLC; Foote Creek III, LLC; Foote Creek IV, LLC; Ridge Crest Wind Partners, LLC.

Description: Chandler Wind Partners, LLC et al. submits a notice of non-material change in status.

Filed Date: 06/09/2008.

Accession Number: 20080611-0120.

Comment Date: 5 p.m. Eastern Time on Monday, June 30, 2008.

Docket Numbers: ER02-2546-010; ER02-2080-009; ER99-3248-012; ER99-1213-010.

Applicants: CED Rock Springs, Inc.; Consolidated Edison Energy MA, Inc.; Lakewood Cogeneration, L.P.; Ocean Peaking Power, L.L.C.

Description: The Project Companies submits a notice of non-material change in status.

Filed Date: 06/09/2008.

Accession Number: 20080611-0109.

Comment Date: 5 p.m. Eastern Time on Monday, June 30, 2008.

Docket Numbers: ER04-208-005; ER06-1228-003; ER07-589-002.

Applicants: Citigroup Energy Inc.; Citigroup Energy Canada ULC; Phibro LLC.

Description: Citigroup Energy Inc, Citigroup Energy Canada ULC, and Phibro, LLC submits notice of non-material change in status in compliance with the reporting requirements of section 35.42 of the FERC's Regulations.

Filed Date: 06/09/2008.

Accession Number: 20080611-0110.

Comment Date: 5 p.m. Eastern Time on Monday, June 30, 2008.

Docket Numbers: ER08-54-002.

Applicants: ISO New England Inc.

Description: ISO New England Inc et al. submits proposed revisions to the ISO's Transmission, Markets and Services Tariff to comply with FERC's Order issued on 5/7/08.

Filed Date: 06/10/2008.

Accession Number: 20080610-0272.

Comment Date: 5 p.m. Eastern Time on Tuesday, July 01, 2008.

Docket Numbers: ER08-654-002.

Applicants: California Independent System Operator Corporation.

Description: The California Independent System Operator et al. submits their instant filing in compliance with FERC's Order issued on 5/9/08.

Filed Date: 06/09/2008.

Accession Number: 20080611-0123.

Comment Date: 5 p.m. Eastern Time on Monday, June 30, 2008.

Docket Numbers: ER08-864-001.

Applicants: Montgomery L' Energia Power Partners LP.

Description: Montgomery L'Energia Power Partners, LP submits an amendment to its 4/23/08 application for authorization to sell energy, capacity, and ancillary services etc.

Filed Date: 06/09/2008.

Accession Number: 20080611-0112.

Comment Date: 5 p.m. Eastern Time on Monday, June 30, 2008.

Docket Numbers: ER08-1080-000.

Applicants: Progress Energy, Inc.

Description: Carolina Power & Light Company et al. submit modifications to the Joint Open Access Transmission Tariff.

Filed Date: 06/06/2008.

Accession Number: 20080610-0206.

Comment Date: 5 p.m. Eastern Time on Friday, June 27, 2008.

Docket Numbers: ER08-1081-000.

Applicants: The American Electric Power Service Corp.

Description: American Electric Power Service Corporation submits a second revision to the Interconnection and Local Delivery Service Agreement 1430 between City of Wapakoneta and AEP Operating Companies.

Filed Date: 06/06/2008.

Accession Number: 20080610-0207.

Comment Date: 5 p.m. Eastern Time on Friday, June 27, 2008.

Docket Numbers: ER08-1082-000.

Applicants: E.ON U.S. LLC.

Description: E.OM US, LLC et al. submits an unexecuted network integration transmission service agreement and an unexecuted network operating agreement for network service to Big Rivers Electric Corp.

Filed Date: 06/06/2008.

Accession Number: 20080610-0209.

Comment Date: 5 p.m. Eastern Time on Friday, June 27, 2008.

Docket Numbers: ER08-1083-000.

Applicants: Southwestern Public Service Company.

Description: Southwestern Public Service Company submits an informational filing showing the calculation of formula rates for partial-requirements services to be provided by SPS to Golden Spread Electric Cooperative, Inc. for the formula etc.

Filed Date: 06/06/2008.

Accession Number: 20080610-0208.

Comment Date: 5 p.m. Eastern Time on Friday, June 27, 2008.

Docket Numbers: ER08-1087-000.

Applicants: PJM Interconnection, LLC.

Description: PJM Interconnection, LLC submits a revised interconnection service agreement with North Allegheny Wind, LLC et al. designated as Original Service Agreement 1848.

Filed Date: 06/06/2008.

Accession Number: 20080610-0212.

Comment Date: 5 p.m. Eastern Time on Friday, June 27, 2008.

Docket Numbers: ER08-1091-000.

Applicants: West Valley Leasing Company, LLC.

Description: West Valley Leasing Company, LLC submits Notice of Cancellation of its market-based rate tariff, FERC Electric Tariff, Original Volume 1, to become effective 6/10/08.

Filed Date: 06/09/2008.

Accession Number: 20080610-0216.

Comment Date: 5 p.m. Eastern Time on Monday, June 30, 2008.

Docket Numbers: ER08-1092-000.

Applicants: The American Electric Power Service Corp.

Description: AEP Operating Companies submits a second revision to the Interconnection and Local Delivery Service agreement 1421 with Village of Cygnet.

Filed Date: 06/09/2008.

Accession Number: 20080610-0218.

Comment Date: 5 p.m. Eastern Time on Monday, June 30, 2008.

Docket Numbers: ER08-1093-000.

Applicants: Pacific Gas and Electric Company.

Description: Pacific Gas and Electric Co. submits notices of termination for two Special Facilities Agreements with City and County of San Francisco.

Filed Date: 06/09/2008.

Accession Number: 20080610-0217.

Comment Date: 5 p.m. Eastern Time on Monday, June 30, 2008.

Docket Numbers: ER08-1094-000; ER08-1095-000; ER08-1096-000; ER08-1097-000.

Applicants: NAEA Energy Massachusetts, LLC; NAEA Ocean Peaking Power, LLC; NAEA Lakewood Cogeneration, LP; NAEA Rock Springs, LLC.

Description: Consolidated Edison Energy Massachusetts, Inc et al. submits notices of succession.

Filed Date: 06/09/2008.

Accession Number: 20080611-0117.

Comment Date: 5 p.m. Eastern Time on Monday, June 30, 2008.

Docket Numbers: ER08-1098-000; ER08-1099-000; ER08-1100-000.

Applicants: National Grid Generation, LLC; National Grid-Port Jefferson Energy Cent; National Grid-Glenwood Energy Center, LL

Description: National Grid USA submits a Notices of Succession for KeySpan Generation LLC et al.

Filed Date: 06/09/2008.

Accession Number: 20080611-0116.

Comment Date: 5 p.m. Eastern Time on Monday, June 30, 2008.

Docket Numbers: ER08-1101-000.

Applicants: PacifiCorp.

Description: PacifiCorp submits a Notice of Cancellation of Service Agreement 11, to its FERC Electric Tariff, First Revised Volume 6, to become effective 7/1/08.

Filed Date: 06/09/2008.

Accession Number: 20080611-0115.

Comment Date: 5 p.m. Eastern Time on Monday, June 30, 2008.

Docket Numbers: ER08-1102-000.

Applicants: PacifiCorp.

Description: PacifiCorp submits a Notice of Cancellation of Service Agreement 2, to its FERC Electric Tariff, First Revised Volume 6.

Filed Date: 06/09/2008.

Accession Number: 20080611-0114.

Comment Date: 5 p.m. Eastern Time on Monday, June 30, 2008.

Take notice that the Commission received the following electric securities filings:

Docket Numbers: ES08-53-000.

Applicants: Indianapolis Power & Light Company.

Description: Application of Indianapolis Power & Light Company under FPA Section 204 for an Order Authorizing the Issuance of Short-Term Debt Instruments.

Filed Date: 06/10/2008.

Accession Number: 20080610-5036.

Comment Date: 5 p.m. Eastern Time on Tuesday, July 01, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-13903 Filed 6-18-08; 8:45 am]

BILLING CODE 6717-01-P